DEPARTMENT OF LABOR

Employment and Training Administration

[TA-W-35,579 and TA-W-35,579A]

Mitchell Energy and Development Corporation Headquartered in the Woodlands, Texas, Operating Throughout the State of Texas and Mitchell Louisiana Gas Services L.P., and Operating Throughout the State of Louisiana; Termination of Certification Regarding Eligibility To Apply for Worker Adjustment Assistance

On March 24, 1999, the Department issued a Certification Regarding Eligibility to Apply for Worker Adjustment Assistance for the workers and former workers of Mitchell Energy and Development Corporation and Mitchell Louisiana Gas Services L.P. (TA-W-35,579.) Notice of the determination was published in the Federal Register on May 21, 1999 (64 FR 27811).

The certification was based on information supplied by the company which the Department concluded to indicate that crude oil production was approximately half of total company revenues. The Department issued the certification on the basis of increased aggregate U.S. imports of crude oil.

Following receipt of a request from the company that coverage of the certification be expanded to include workers not covered by the certification, the Department on December 6, 1999 instituted an investigation on behalf of workers employed in the following organizational subdivisions of the subject firm which had not been specifically identified in the certification as covered: Mitchell Energy Corporation, Mitchell Gas Services, L.P., and MND Services. The Department determined it appropriate to institute a new investigation with respect to the three above-mentioned subsidiary entities and that investigation was instituted as TA-W-37, 142.

Following the receipt and review of additional information requested by the Department in conjunction with its investigation with respect to the subsidiary entities, it was concluded less than six percent of revenues of Mitchell Energy and Development Corporation are derived from production of crude oil and that such crude oil is in fact a by-product of the subject firm's primary activities: the acquisition and processing of natural gas and natural gas liquids. Thus, upon the review of more detailed information than that initially submitted by the subject firm, it was concluded that a certification of eligibility to apply for worker adjustment assistance cannot be based upon increased imports of crude oil.

Based upon the additional evidence obtained and in accordance with Section 223(d) of the Act, on February 9, 2000, the Director of the Division of Trade Adjustment Assistance instituted an investigation to determine separations of workers from Mitchell Energy and Development Corporation and Mitchell Louisiana Gas Services ­L. P. (TA-W-35,579 and TA-W-35,579A) continue to be attributable to the conditions for certification specified in Section 222 of the Act. Notice of the investigation was published in the Federal Register on February 25, 2000.

The Department has surveyed customers of the primary products of Mitchell Energy and Development Corporation—natural gas and natural gas liquids—in order determine to whether imports of such products contributed importantly to the worker separations. None of the surveyed customers purchased imported natural gas or natural gas liquids.

Conclusion

Upon the review of the evidence it is determined that the Certification of Eligibility to Apply for Worker Adjustment Assistance with respect to workers of Mitchell Energy and Development Corporation, headquartered in the Woodlands, Texas operating throughout the state of Texas (TA-W-35,579) and Mitchell Louisiana Gas Services L.P. and operating throughout the state of Louisiana (TA-W-579A) is terminated. The effective date of this termination is May 18, 2000.

Signed at Washington, DC, this 10th day of May 2000.
Grant D. Beale,
Program Manager, Division of Trade Adjustment Assistance.

[FR Doc. 00-12508 Filed 5-17-00; 8:45 am]

BILLING CODE 4510-30-M